DEPARTMENT OF TRANSPORTATION

Federal Aviation Administration

Notice of Intent To Rule on Application (05-04-C-00-FNL) To Impose and To Use a Passenger Facility Charge (PFC) at the Fort Collins-Loveland Municipal Airport, Submitted by the Cities of Fort Collins and Loveland, CO

AGENCY: Federal Aviation Administration (FAA), DOT.

ACTION: Notice of intent to rule on application.

SUMMARY: The FAA proposes to rule and invites public comment on the application to impose and use a PFC at the Fort Collins-Loveland Municipal Airport under the provisions of 49 U.S.C. 40117 and part 158 of the Federal Aviation Regulations (14 CFR part 158).

DATES: Comments must be received on or before December 20, 2004.

ADDRESSES: Comments on this application may be mailed or delivered in triplicate to the FAA at the following address: Craig Sparks, Manager, Denver Airports District Office, DEN-ADO; Federal Aviation Administration; 26805 E. 68th Avenue, Suite 224; Denver, Colorado 80249-6361.

In addition, one copy of any comments submitted to the FAA must be mailed or delivered to Mr. David C. Gordon, A.A.E., at the following address: Ft. Collins-Loveland Municipal Airport, 4900 Earhart Road, Loveland, Colorado 80538.

Air Carriers and foreign air carriers may submit copies of written comments previously provided to the Fort Collins-Loveland Municipal Airport, under section 158.23 of part 158.

FOR FURTHER INFORMATION CONTACT: Mr. Christopher Schaffer, (303) 342-1258; Denver Airports District Office, DEN-ADO; Federal Aviation Administration; 26805 E. 68th Avenue, Suite 224; Denver, Colorado 80249-6361. The application may be reviewed in person at this same location.

SUPPLEMENTARY INFORMATION: The FAA proposes to rule and invites public comment on the application (05-04-C-00-FNL) to impose and use a PFC at the Fort Collins-Loveland Municipal Airport, under the provisions of 49 U.S.C. 40117 and part 158 of the Federal Aviation Regulations (14 CFR part 158).

On November 10, 2004, the FAA determined that the application to impose and use a PFC submitted by the City of Fort Collins and the City of Loveland, Colorado, was substantially complete within the requirements of section 158.25 of part 158. The FAA will approve or disapprove the application, in whole or in part, no later than February 9, 2005.

The following is a brief overview of the applications.

Level of the proposed PFC: $4.50.

Proposed charge effective date: March 1, 2005.

Proposed charge expiration date: November 1, 2007.

Total requested for use approval: $315,329.

Brief description of proposed projects: Phase II and Phase III Rehabilitation of Runway 15/33 including installation of distance remaining signs and runway end identifier lights; fog seal and mark Runway 15/33; and replace airfield lighting controls.

Class or classes of air carriers that the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice, and other documents germane to the application in person at the Fort Collins-Loveland Municipal Airport.

Issued in Renton, Washington, on November 10, 2004.
David A. Field,
Manager, Planning, Programming and Capacity Branch, Northwest Mountain Region.

[FR Doc. 04-25701 Filed 11-18-04; 8:45 am]

BILLING CODE 4910-13-M